DEPARTMENT OF TRANSPORTATION

Federal Aviation Administration

14 CFR Part 39

[Docket No. FAA-2012-0529; Directorate Identifier 2011-SW-050-AD; Amendment 39-17648; AD 2013-22-16]

RIN 2120-AA64

Airworthiness Directives; Agusta S.p.A. (Type Certificate Currently Held by Agusta Westland) Helicopters

AGENCY: Federal Aviation Administration (FAA), DOT.

ACTION: Final rule.

SUMMARY: We are adopting a new airworthiness directive (AD) for certain Agusta S.p.A. (Agusta) Model AW139 helicopters. This AD requires replacing certain solder splices in the co-pilot audio system. This AD was prompted by the discovery of improper installation of solder splices on the co-pilot audio system causing intermittent noise through the audio system during flight. The actions of this AD are intended to prevent degradation and complete loss of communications between the pilot and co-pilot during flight, impairing the co-pilot's capability to react immediately to operational difficulties, which could lead to subsequent loss of control of the helicopter.

DATES: This AD is effective December 13, 2013.

The Director of the Federal Register approved the incorporation by reference of a certain document listed in this AD as of December 13, 2013.

ADDRESSES: For service information identified in this AD, contact Agusta Westland, Customer Support & Services, Via Per Tornavento 15, 21019 Somma Lombardo (VA) Italy, ATTN: Giovanni Cecchelli; telephone 39- 0331-711133; fax 39 0331 711180; or at http://www.agustawestland.com/technical-bullettins. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: John VanHoudt, Aerospace Engineer, FAA, Rotorcraft Directorate, Regulations and Policy Group, 2601 Meacham Blvd., Fort Worth, Texas 76137, telephone (817) 222-5110, email john.vanhoudt@faa.gov.

SUPPLEMENTARY INFORMATION:

Discussion

On May 22, 2012, at 77 FR 30236, the Federal Register published our notice of proposed rulemaking (NPRM), which proposed to amend 14 CFR part 39 by adding an AD that would apply to certain Agusta AW139 helicopters. The NPRM proposed to require within 500 hours time-in-service (TIS) or six months or when an “AVIONICS FAULT” crew alerting system (CAS) message is displayed, whichever occurs first, replacing all solder splices in the co-pilot audio system. The proposed requirements were intended to prevent degradation and complete loss of communications between the pilot and co-pilot during flight, impairing the co-pilot's capability to react immediately to operational difficulties, which could lead to subsequent loss of control of the helicopter.

The NPRM was prompted by AD No. 2011-0140, dated July 20, 2011, issued by EASA, which is the Technical Agent for the Member States of the European Union. EASA issued AD No. 2011-0140 to correct an unsafe condition for certain Agusta AW139 helicopters. EASA advises that some occurrences of intermittent noise in the co-pilot audio system have been reported. The technical investigation carried out by Agusta showed that some of the solder splices on the audio panel were the possible cause of these malfunctions. This condition, if not detected and corrected, could impair the co-pilot's capability to react immediately to operational difficulties. The EASA AD requires inspecting the solder splices and related wires for their condition and for proper installation, and if required, replacing the solder splices.

Comments

After our NPRM (77 FR 30236, May 22, 2012) was published, we received comments from four commenters.

Request

One commenter requested we include a statement that previous compliance with Agusta Bollettino Tecnico No. 139-249 fulfills the requirements of the proposed AD. We disagree that compliance with this service information will always fulfill the requirements of this AD. The service information only requires the replacement of damaged splices, while this AD requires the replacement of all solder splices. We have made a minor change to the language of paragraph (e) to clarify this requirement.

Three commenters expressed support for proposed changes to the living history flight experience regulations. These comments appear to have been posted in error in this docket as they are not relevant to the NPRM (77 FR 30236, May 22, 2012).

FAA's Determination

These helicopters have been approved by the aviation authority of Italy and are approved for operation in the United States. Pursuant to our bilateral agreement with Italy, EASA, its technical representative, has notified us of the unsafe condition described in the EASA AD. We are issuing this AD because we evaluated all information provided by EASA, reviewed the relevant information, considered the comments received, and determined the unsafe condition exists and is likely to exist or develop on other helicopters of these same type designs and that air safety and the public interest require adopting the AD requirements as proposed except for minor editorial changes in paragraph (e) to clarify the intent of that paragraph. These minor editorial changes are consistent with the intent of the proposals in the NPRM (77 FR 30236, May 22, 2012) and will not increase the economic burden on any operator nor increase the scope of the AD.

Differences Between This AD and the EASA AD

The EASA AD requires performing a visual inspection and manual pull-test of the solder splices, while this AD does not. The EASA AD requires that damaged or defective splices be replaced, while this AD requires the replacement of all splices with a part number listed in the service information. The EASA AD requires compliance within 600 flight hours or 6 months, while this AD requires compliance within 500 hours TIS or 5 months.

Related Service Information

Agusta has issued Bollettino Tecnico (BT) No. 139-249, dated July 13, 2011 (BT 139-249), which specifies performing an inspection and manual pull-test of the solder splices and replacing any splices which fail the inspection or pull-test. EASA classified this BT as mandatory and issued 2011-0140 to ensure the continued airworthiness of these helicopters.

Costs of Compliance

We estimate that this AD will affect 32 helicopters of U.S. Registry. We estimate that operators may incur the following costs in order to comply with this AD. Replacing the solder splices will require approximately 110 work-hours at an average labor cost of $85 per hour and required parts will cost $200, for a total cost to the operator of $9,550 and a total cost to the U.S. operator fleet of $305,600.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-22-16 Agusta S.P.A. (Type Certificate Currently Held By Agustawestland) Helicopters: Amendment 39-17648; Docket No. FAA-2012-0529; Directorate Identifier 2011-SW-050-AD.

(a) Applicability

This AD applies to Agusta S.p.A. Model AW139 helicopters, serial numbers 31248, 31249, 41001 through 41023, 41201 through 41234, 41236, 41237 through 41255 (except 41240, 41242, 41246, 41249, 41251, and 41252), and 41257, certificated in any category.

(b) Unsafe Condition

This AD defines the unsafe condition as intermittent noise through the audio system during flight caused by improper installation of solder splices on the co-pilot's audio panel. This condition could result in degradation and complete loss of communications between the pilot and co-pilot during flight, impairing the co-pilot's capability to react immediately to operational difficulties, which could lead to subsequent loss of control of the helicopter.

(c) Effective Date

This AD becomes effective December 13, 2013.

(d) Compliance

You are responsible for performing each action required by this AD within the specified compliance time unless it has already been accomplished prior to that time.

(e) Required Action

Within 500 hours time-in-service or 5 months, or in the event of an AVIONICS FAULT crew alerting system (CAS) message, whichever occurs first, replace each co-pilot audio panel solder splice listed in Tables 1 and 2 of Agusta Bollettino Tecnico No. 139-249, dated July 13, 2011 (BT), by following the procedures in paragraphs 7.1 through 7.11. and Figures 12, 14, and 15 of the BT.

(f) Alternative Methods of Compliance (AMOCs)

(1) The Manager, Safety Management Group, FAA, may approve AMOCs for this AD. Send your proposal to: John VanHoudt, Aerospace Engineer, FAA, Rotorcraft Directorate, Regulations and Policy Group, 2601 Meacham Blvd., Fort Worth, Texas 76137, telephone (817) 222-5110, email john.vanhoudt@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) The subject of this AD is addressed in European Aviation Safety Agency (EASA) AD No. 2011-0140, dated July 20, 2011. You may view the EASA AD on the Internet at http://www.regulations.gov in Docket No. FAA-2012-0529.

(h) Subject

Joint Aircraft System Component (JASC) Code: 2397: Communications System Wiring.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Agusta Bollettino Tecnico No. 139-249, dated July 13, 2011.

(ii) Reserved.

(3) For Agusta service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on October 25, 2013.
Kim Smith,
Directorate Manager, Rotorcraft Directorate, Aircraft Certification Service.

[FR Doc. 2013-26048 Filed 11-7-13; 8:45 am]

BILLING CODE 4910-13-P